DEPARTMENT OF COMMERCE

International Trade Administration

[A-351-603)(C-351-604)(A-122-601)(A-427-602)(C-427-603)(A-475-601)(A-428-602) (A-588-704]

Brass Sheet and Strip From Brazil, Canada, France, Italy, Germany, and Japan: Amended Notice of Continuation of Antidumping Duty Orders and Countervailing Duty Orders

AGENCY: Import Administration, International Trade Administration, Department of Commerce.

ACTION: Amended Notice of Continuation of Antidumping Duty Orders and Countervailing Duty Orders: Brass Sheet and Strip From Brazil, Canada, France, Italy, Germany, and Japan.

SUMMARY: On May 1, 2000, the Department of Commerce (“the Department”) pursuant to section 751(d)(2) of the Act, as amended (“the Act”), published continuation of the antidumping duty orders on brass sheet and strip from Brazil, France, Italy, Germany, Japan, and Canada, and the countervailing duty orders on brass sheet and strip from Brazil and France (65 FR 25304). Subsequent to the issuance of the continuation notice, we discovered a ministerial error. As a result, we are correcting the next sunset review date of these orders listed in the determination section of the notice of continuation of the above orders from “not later than March 2005” to “not later than April 2005.”

EFFECTIVE DATE: May 23, 2000.

FOR FURTHER INFORMATION CONTACT: Eun W. Cho or Carole Showers, Office of Policy for Import Administration, International Trade Administration, U.S. Department of Commerce, 14th St. & Constitution Ave., NW, Washington, D.C. 20230: telephone (202) 482-1698 or (202) 482-3217, respectively.

SUPPLEMENTARY INFORMATION:

Background

On May 1, 2000, the Department issued the continuation of antidumping duty orders and countervailing duty orders: brass sheet and strip from Brazil, Canada, France, Italy, Germany, and Japan. (65 FR 25304). Subsequent to the publication of the continuation notice, we discovered a ministerial error.

Clerical Error

In our continuation notice, we indicated that we intend to initiate the next five-year reviews of these orders not later than March 2005. However, because the Department's determination to continue the above orders was published on May 1, 2000, pursuant to section 751(c)(2) and 751(c)(6) of the Act, the Department intends to initiate the next five-year reviews of these orders not later than April 2005.

Because we inadvertently listed the wrong initiation month in the determination section of our continuation notice, we are amending that notice to correct the ministerial error.

Amended Continuation Notice

We are correcting the month listed in the determination section of our continuation notice as follows:

Pursuant to sections 751(c)(2) and 751 (c)(6) of the Act, the Department intends to initiate the next five-year review of these orders not later than April 2005.

This amendment is issued and published in accordance with sections 751(h) and 777(i) of the Act.

May 16, 2000.
Troy H. Cribb,
Acting Assistant Secretary for Import Administration.

[FR Doc. 00-12973 Filed 5-22-00; 8:45 am]

BILLING CODE 3510-DS-P